NUCLEAR REGULATORY COMMISSION

10 CFR Part 40

RIN 3150-AH15

[NRC-2011-0003]

Implementation Guidance for Distribution of Source Material to Exempt Persons and to General Licensees and Revision of General License and Exemptions; Draft Guidance Document; Correction

AGENCY: Nuclear Regulatory Commission.

ACTION: Request for comment; correction.

SUMMARY: This document corrects a notice appearing in the Federal Register on January 7, 2011, that announces the availability of draft implementation guidance for public comment. This action is necessary to correct the ADAMS Accession Number for the draft Part 40 implementation guidance.

FOR FURTHER INFORMATION CONTACT: Lisa Dimmick, Health Physicist, Office of Federal and State Materials and Environmental Management Programs, U.S. Nuclear Regulatory Commission, Washington, DC 20555-0001, telephone: 301-415-0694, e-mail: Lisa.Dimmick@nrc.gov.

SUPPLEMENTARY INFORMATION: On January 7, 2011, at 76 FR 1100, NRC published a document announcing the availability of draft implementation guidance for public comment. In that publication, the accession number was incorrect.

In the January 7, 2011, issue of the Federal Register, on page 1101, the first paragraphs in both the second and third columns, the ADAMS accession number for the guidance document is corrected to read “ML103160257.”

Dated at Rockville, Maryland, this 24th day of January 2011.
For the Nuclear Regulatory Commission.
Jack W. Foster,
Chief, Licensing Branch, Division of Materials Safety and State Agreements, Office of Federal and State Materials and Environmental Management Programs.

[FR Doc. 2011-3222 Filed 2-11-11; 8:45 am]

BILLING CODE 7590-01-P